DEPARTMENT OF ENERGY

Federal Energy Regulatory Commission

[Docket No. EL00-62-008, et al.]

ISO New England Inc., et al.; Electric Rate and Corporate Regulation Filings

August 21, 2000.

Take notice that the following filings have been made with the Commission:

1. ISO New England Inc.

[Docket No. EL00-62-008]

Take notice that on August 16, 2000, the New England Power Pool (NEPOOL) Participants Committee tendered for filing additional information relating to its July 28, 2000, filing in the above captioned docket. This supplemental information updates the voting results set forth in NEPOOL's July 28, 2000 filing.

The NEPOOL Participants Committee states that copies of these materials were sent to all persons identified on the service lists in the above captioned docket, the NEPOOL Participants and the six New England state governors and regulatory commissions.

Comment date: September 20, 2000, in accordance with Standard Paragraph E at the end of this notice.

2. MC Energy Partners, L.P.

[Docket No. EG00-244-000]

Take notice that on August 16, 2000, MC Energy Partners, L.P., a Texas limited partnership, with its principal office located at 101 Ash Street, San Diego, California 92101, tendered for filing with the Federal Energy Regulatory Commission (Commission) an Application for determination of exempt wholesale generator status pursuant to Part 365 of the Commission's Regulations and Section 32 of the Public Utility Holding Company Act of 1935, as amended. Applicant is a Texas limited partnership that will be engaged directly and exclusively in operating an approximately 500 MW natural gas-fueled, electric generating facility (the Facility) located in Montgomery County, Texas, approximately three miles south of the City of Dobbin, Texas (about 40 miles north of Houston) and selling energy at wholesale from the Facility.

Comment date: September 11, 2000, in accordance with Standard Paragraph E at the end of this notice. The Commission will limit its consideration of comments to those that concern the adequacy or accuracy of the application.

3. Cedar Power Partners, L.P.

[Docket No. EG00-245-000]

Take notice that on August 16, 2000, Cedar Power Partners, L.P., a Texas limited partnership, with its principal office located at 101 Ash Street, San Diego, California 92101, tendered for filing with the Federal Energy Regulatory Commission (Commission) an Application for determination of exempt wholesale generator status pursuant to Part 365 of the Commission's Regulations and Section 32 of the Public Utility Holding Company Act of 1935, as amended. Applicant is a Texas limited partnership that will be engaged directly and exclusively in operating an approximately 500 MW natural gas-fueled electric generating facility (the Facility) located in Liberty County, eight miles west of the City of Dayton, Texas (about 36 miles northeast of Houston), and selling energy at wholesale from the Facility.

Comment date: September 11, 2000, in accordance with Standard Paragraph E at the end of this notice. The Commission will limit its consideration of comments to those that concern the adequacy or accuracy of the application.

4. Sierra Pacific Power Company

[Docket No. ER00-3420-000]

Take notice that on August 16, 2000, Sierra Pacific Power Company (Sierra) tendered for filing Amendatory Agreement No. 2 to Amendatory Agreement No. 1 between Bonneville Power Administration and Sierra Pacific Power Company for transfer service to Wells Rural Electric Company.

Sierra states that the Amendatory Agreement No. 2 establishes the points of delivery together with their maximum demands, changes the point of replacement under the Agreement No. 1 from Midpoint to Hilltop, provides for total transfer capacity in an amount not to exceed 110 MW for both this Amendatory Agreement No. 2 and an Agreement between Bonneville Power Administration and Sierra for transfer service to Harney Electric Cooperative, Inc., and provides for a forecast of monthly peak load which forms the basis for calculation of the minimum transfer payment. Sierra requests the Commission permit the Amendatory Agreement No. 2 to be made effective July 5, 2000.

Copies of this filing were served upon the Public Utilities Commission of Nevada, the Public Utilities Commission of California, and the Nevada Bureau of Consumer Protection and Bonneville Power Administration.

Comment date: September 6, 2000, in accordance with Standard Paragraph E at the end of this notice.

5. AEP Power Marketing, Inc.; AEP Service Corporation; CSW Power Marketing, Inc; CSW Energy Services, Inc; Central and South West Services, Inc.

[Docket Nos. ER96-2495-015, ER97-4143-003, ER97-1238-010, ER98-2075-009, and ER98-542-005]

Take notice that on August 16, 2000, AEP Power Marketing, Inc.; AEP Service Corporation, on behalf of the AEP operating companies; CSW Power Marketing, Inc.; CSW Energy Services, Inc.; and Central and South West Services, Inc., on behalf of the CSW operating companies, jointly tendered for filing with the Federal Energy Regulatory Commission an updated market power analysis. This filing fulfills a commitment made in Docket No. ER96-2495-012 to file an updated market power analysis 60 days after consummation of the merger of American Electric Power Corporation and Central and South West Corporation. The filing also serves as the triennial updated market power analysis in Docket Nos. ER97-4143, ER98-2075, and ER98-542, as well as the deferred updated market power analysis in Docket No. ER97-1238. In addition, the companies request that the Commission synchronize their future triennial market power updates.

Comment date: September 6, 2000, in accordance with Standard Paragraph E at the end of this notice.

6. Carolina Power & Light Company

[Docket No. ER00-3421-000]

Take notice that on August 16, 2000, Carolina Power & Light Company (CP&L), tendered for filing a Service Agreement for Short-Term Firm Point-to-Point Transmission Service with Amerada Hess Corporation. Service to this Eligible Customer will be in accordance with the terms and conditions of Carolina Power & Light Company's Open Access Transmission Tariff.

CP&L is requesting an effective date of July 18, 2000 for this Agreement.

Copies of the filing were served upon the North Carolina Utilities Commission and the South Carolina Public Service Commission.

Comment date: September 6, 2000, in accordance with Standard Paragraph E at the end of this notice.

7. Cinergy Services, Inc.

[Docket No. ER00-3422-000]

Take notice that on August 16, 2000, Cinergy Services, Inc. on behalf of its Operating Company affiliates, The Cincinnati Gas & Electric Company and PSI Energy, Inc. (COC), tendered for filing an executed service agreement between COC and Southern Company Energy Marketing L.P. (SCEM) replacing the unexecuted service agreement filed on October 25, 1997 under Docket No. ER98-847-000 per COC FERC Electric Market-Based Power Sales Tariff, Original Volume No. 7-MB.

COC is requesting an effective date of October 29, 1997 and the same Rate Designation as per the original filing.

Comment date: September 6, 2000, in accordance with Standard Paragraph E at the end of this notice.

8. California Independent System Operator Corporation

[Docket No. ER00-3423-000]

Take notice that on August 16, 2000, the California Independent System Operator Corporation (ISO), tendered for filing a Meter Service Agreement for Scheduling Coordinators between the ISO and Cucamonga Electric Corporation for acceptance by the Commission.

The ISO states that this filing has been served on Cucamonga Electric Corporation and the California Public Utilities Commission.

The ISO is requesting waiver of the 60-day notice requirements to allow the Meter Service Agreement to be made effective as of July 31, 2000.

Comment date: September 6, 2000, in accordance with Standard Paragraph E at the end of this notice.

9. Sierra Pacific Power Company

[Docket No. ER00-3425-000]

Take notice that on August 16, 2000, Sierra Pacific Power Company (Sierra), tendered for filing an Amendatory Agreement to an Agreement between Bonneville Power Administration and Sierra Pacific Power Company for transfer to Harney Electric Cooperative.

Sierra states that the Amendatory Agreement changes the point of replacement under the Agreement from Midpoint to Hilltop, provides for total transfer capacity in an amount not to exceed 110 MW for both this Agreement and an Agreement between Bonneville Power Administration and Sierra for transfer service to Wells Rural Electric Company, and provides for a forecast of monthly peak load which forms the basis for calculation of the minimum transfer payment.

Sierra requests the Commission permit the Amendatory Agreement to be made effective July 5, 2000.

Copies of this filing were served upon the Public Utilities Commission of Nevada, the Public Utilities Commission of California, and the Nevada Bureau of Consumer Protection and Bonneville Power Administration.

Comment date: September 6, 2000, in accordance with Standard Paragraph E at the end of this notice.

10. Central Illinois Light Company

[Docket No. ER00-3426-000]

Take notice that on August 16, 2000, Central Illinois Light Company (CILCO), 300 Liberty Street, Peoria, Illinois, 61602, tendered for filing with the Commission an Index of Customers Under its Market Rate Power Sales Tariff and one service agreement with one new customer, Public Service Company of Colorado.

CILCO requested an effective date of August 16, 2000.

Copies of the filing were served on the affected customer and the Illinois Commerce Commission.

Comment date: September 6, 2000, in accordance with Standard Paragraph E at the end of this notice.

11. Central Illinois Light Company

[Docket No. ER00-3427-000]

Take notice that on August 16, 2000, Central Illinois Light Company (CILCO), 300 Liberty Street, Peoria, Illinois, 61602, tendered for filing with the Commission a substitute Index of Customers Under its Coordination Sales Tariff and one service agreement with one new customer, Public Service Company of Colorado.

CILCO requested an effective date of August 16, 2000.

Copies of the filing were served on the affected customer and the Illinois Commerce Commission.

Comment date: September 6, 2000, in accordance with Standard Paragraph E at the end of this notice.

12. Central Power and Light Company; West Texas Utilities Company; Public Service Company of Oklahoma; Southwestern Electric Power Company

[Docket No. ER00-3428-000]

Take notice that on August 16, 2000, Central Power and Light Company (CPL), tendered for filing an Interconnection Agreement between CPL and Formosa Utility Venture, Ltd. (Formosa) dated May 30, 2000. In addition, CPL, West Texas Utilities Company (WTU), Public Service Company of Oklahoma (PSO) and Southwestern Electric Power Company (SWEPCO) (collectively, the AEP West Operating Companies) submitted for filing a service agreement under which Formosa will take ancillary services under Part IV of the Open Access Transmission Service Tariff under which the AEP West Operating Companies offer ancillary services.

The AEP West Operating Companies request that the Interconnection Agreement be accepted to become effective as of May 30, 2000, and that the service agreement be accepted to become effective as of August 17, 2000. Accordingly, the AEP West Operating Companies request waiver of the Commission's notice requirements.

CPL states that a copy of the filing was served on Formosa and the Public Utility Commission of Texas.

Comment date: September 6, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

Linwood A. Watson, Jr.,
Acting Secretary.

[FR Doc. 00-21702 Filed 8-24-00; 8:45 am]

BILLING CODE 6717-01-P